DEPARTMENT OF HOUSING AND URBAN DEVELOPMENT

24 CFR Chapter IX

[Docket No. FR-5650-N-08]

Native American Housing Assistance and Self-Determination Act of 1996: Request for Information

AGENCY: Office of Assistant Secretary for Public and Indian Housing, HUD.

ACTION: Request for information.

SUMMARY: On June 12, 2013, HUD published a Federal Register document that established the Native American Housing and Self-Determination Formula Negotiated Rulemaking Committee, 2013 (Committee). The purpose of the Committee is to develop regulatory changes to the funding formula for the Indian Housing Block Grant (IHBG) program authorized by the Native American Housing Assistance and Self-Determination Act of 1996. As part of its charter, the Committee is reviewing whether the current data source for the needs variables, which is the U.S. Decennial Census, should be updated or revised. HUD and the Committee are considering all relevant data sources, including the American Community Survey (ACS), and how each data source might be used or modified, to serve as the source of the data upon which the needs variables of the IHBG formula would be based. This Request for Information requests interested members of the public to provide information regarding alternate data sources, including ACS, which might serve as the basis upon which the needs variables of the IHBG formula could be based.

DATES: Comment Due Date: October 27, 2014.

ADDRESSES: Interested persons are invited to submit information responsive to this document to the Regulations Division, Office of General Counsel, Department of Housing and Urban Development, 451 7th Street SW., Room 10276, Washington, DC 20410-0500. Communications must refer to the above docket number and title. There are two methods for submitting public comments. All submissions must refer to the above docket number and title.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit information electronically.

2. Submission of Comments by Mail. Comments may be submitted by mail to the Regulations Division, Office of General Counsel, Department of Housing and Urban Development, 451 7th Street SW., Room 10276, Washington, DC 20410-0500.

Note: To receive consideration, comments must be submitted through one of the two methods specified above. Again, all submissions must refer to the docket number and title of this notice.

No Facsimile Comments. Facsimile (fax) comments are not acceptable.

Public Inspection of Public Comments. All properly submitted communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number via TTY by calling the Federal Relay Service at 800-877-8339. Copies of all communications submitted are available for inspection and downloading at www.regulations.gov.

FOR FURTHER INFORMATION CONTACT: Rodger Boyd, Deputy Assistant Secretary for Native American Programs, Room 4126, Office of Public and Indian Housing, Department of Housing and Urban Development, 451 7th Street SW., Washington, DC 20410, telephone number: 202-401-7914 (this is not a toll-free number). Hearing- or speech-impaired individuals may access this number via TTY by calling the toll-free Federal Relay Service at 1-800-877-8339.

SUPPLEMENTARY INFORMATION: On June 12, 2013 (78 FR 35178), HUD published a Federal Register document that established the Native American Housing and Self-Determination Formula Negotiated Rulemaking Committee, 2013 (Committee). The purpose of the Committee is to develop regulatory changes to the funding formula for the Indian Housing Block Grant (IHBG) program authorized by the Native American Housing Assistance and Self-Determination Act of 1996.

In carrying out its charter, the Committee is reviewing the need to update the data source upon which the needs variables will be determined. Currently, 24 CFR 1000.330 provides that the need variables are based on data from the U.S. Decennial Census. After the 2000 Census, the U.S. Census Bureau discontinued using the long form portion of the Decennial Census and replaced it with the ACS. The ACS, unlike the U.S. Decennial Census, is an ongoing statistical survey by the U.S. Census Bureau that regularly samples household across the country to gather information. In considering various alternative data source options, the Committee considered basing the need variables on the ACS. Several Committee members expressed concerns regarding the use of ACS.

The Committee agreed to establish a Study Group to identify and review all relevant data sources, including the ACS, and determine for each data source whether it might be used or modified to serve as the basis for the needs variables of the IHBG formula. This document seeks information from members of the public that could assist the Study Group by identifying and reviewing one or more existing data sources that might serve as the basis for the needs variables.

The Committee requests a data source and method of introducing that data source that achieves an optimal balance of the following factors: Recognizes Tribal sovereignty; provides data that is relevant to eligible AIAN housing needs; and has a data collection methodology that is objective, equitable, transparent, consistent, capable of being applied to all existing formula areas, statistically reliable, and replicable both over time and diverse geographies. Data should be collected and submitted by proficient persons or organizations that have appropriate capacity and training and should be collected on a recurring basis at reasonable intervals or be capable of reliable statistical aging. Finally, the data source should not impose an undue administrative or financial burden upon Tribes, be cost-effective, and be capable of being fully evaluated by the Study Group within a one-year timeframe.

Dated: September 18, 2014.
Jemine A. Bryon,
Acting Assistant Secretary for Public and Indian Housing.

[FR Doc. 2014-22897 Filed 9-24-14; 8:45 am]

BILLING CODE 4210-67-P